DEPARTMENT OF DEFENSE

Department of the Army

Availability for Non-Exclusive, Exclusive, or Partially Exclusive Licensing of U.S. Provisional Patent Application Concerning Digital Healthcare Documentation System

AGENCY: Department of the Army, DoD.

ACTION: Notice.

SUMMARY: In accordance with 37 CFR 404.6 and 404.7, announcement is made of the availability for licensing of the invention described in U.S. Provisional Patent Application No. 60/378,455 entitled “Digital Healthcare Documentation System,” filed May 6, 2002. The United States Government, as represented by the Secretary of the Army, has rights in this invention.

ADDRESSES: Commander, U.S. Army medical Research and Materiel Command, Attn: Command Judge Advocate, MCMR-JA, 504 Scott Street, Forth Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The Digital Healthcare Documentation System (DHDS) is a multi-level computer-based patient record (CPR) that allows for the input, storage and output of healthcare information at various echelons of care. The system can be set up for use by one individual using a single computer or by a large medical treatment facility on a network.

Luz D. Ortiz,
Army Federal Register Liaison Officer.

[FR Doc. 03-1762 Filed 1-24-03; 8:45 am]

BILLING CODE 3710-08-M